DEPARTMENT OF COMMERCE

National Oceanic and Atmospheric Administration

RIN 0648-XA582

New England Fishery Management Council; Public Meeting

AGENCY: Commerce, National Oceanic and Atmospheric Administration (NOAA), National Marine Fisheries Service (NMFS).

ACTION: Notice; Public meeting.

SUMMARY: The New England Fishery Management Council (Council) is scheduling a public meeting of its Scientific and Statistical Committee, on August 9-10, 2011, to consider actions affecting New England fisheries in the exclusive economic zone (EEZ). Recommendations from this group will be brought to the full Council for formal consideration and action, if appropriate.

DATES: This meeting will be held on Tuesday, August 9 at 10 a.m. and Wednesday, August 10, 2011 at 9 a.m.

ADDRESSES: The meeting will be held at the Seaport Hotel, 200 Seaport Boulevard, Ste 500, Boston, MA 02210; telephone: (617) 385-4000; fax: (617) 385-4001.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Tuesday, August 9, 2011-Wednesday, August 10, 2011

The Scientific and Statistical Committee (SSC) will continue to develop the methods for setting ABCs for the Northeast Multispecies FMP for FY 2012-14. Additionally, the SSC will review analyses provided by the Whiting PDT in response to the guidance it received at the April 12-13, 2011 SSC meeting and recommend ABCs for the stocks of silver hake, red hake and white hake skate fishery for inclusion in Amendment 19 (small mesh multispecies component) to the Northeast Multispecies Fishery Management Plan.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: July 15, 2011.
Tracey L. Thompson,
Acting Director, Office of Sustainable Fisheries, National Marine Fisheries Service.

[FR Doc. 2011-18277 Filed 7-19-11; 8:45 am]

BILLING CODE 3510-22-P